NUCLEAR REGULATORY COMMISSION

[Docket No. STN 50-454 and License No. NPF-37]

Exelon Generation Company, LLC; Receipt of Request for Action Under 10 CFR 2.206

Notice is hereby given that by petition dated March 2, 2005, Mr. Barry Quigley (petitioner) has requested that the NRC take action with regard to Exelon Generation Company, LLC, the licensee for Byron Station, Unit 1. The petitioner requests enforcement action for failure to comply with 10 CFR Part 50, Appendix B, Criterion XVI.

As the basis for this request, the petitioner states that the 1C cold leg loop stop isolation valve (1RC 8002C) has been broken for at least six years and has not been repaired.

The request is being treated pursuant to Title 10 of the Code of Federal Regulations (10 CFR) Section 2.206 of the Commission's regulations. The request has been referred to the Director of the Office of Nuclear Reactor Regulation. As provided by Section 2.206, appropriate action will be taken on this petition within a reasonable time. The petitioner communicated by telephone with the Nuclear Reactor Regulation petition review board on March 4, 2005, to discuss the petition. The results of that discussion were considered in the board's determination regarding the petitioner's request for immediate action and in establishing the schedule for the review of the petition. By letter dated April 5, 2005, the Director denied the petitioner's request for immediate action with respect to repair of the 1RC 8002C valve at Exelon Generation Company, LLC's Byron Station, Unit 1. A copy of the petition is available for inspection at the Commission's Public Document Room (PDR), located at One White Flint North, Public File Area O1 F21, 11555 Rockville Pike (first floor), Rockville, Maryland. Publicly available records will be accessible from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 5th day of April 2005.
For the Nuclear Regulatory Commission.
J.E. Dyer,
Director, Office of Nuclear Reactor Regulation.

[FR Doc. E5-1681 Filed 4-11-05; 8:45 am]

BILLING CODE 7590-01-P